DEPARTMENT OF THE INTERIOR

Geological Survey

[GX22EF00COM0000]

Reconciliation of Derogatory Geographic Names Tribal Consultation

AGENCY: Geological Survey, Interior.

ACTION: Notice of tribal consultations.

SUMMARY: The U.S. Department of the Interior (DOI) will conduct Tribal Consultation sessions to obtain oral and written comments on candidate replacement names for geographic feature names recently declared derogatory by DOI Secretary's Order 3404 (S.O. 3404). These sessions will be held virtually.

DATES: Oral comments can be provided at one of three virtual Tribal Consultations to be held on March 21, 2022, from 12:00 p.m.—2:00 p.m. Mountain Time; March 22, 2022, from 11:00 a.m.—1:00 p.m. Pacific Time; and March 23, 2022, from 1:00 p.m.—3:00 p.m. Eastern Time (ET). Please see SUPPLEMENTARY INFORMATION below for details on how to participate. Written comments must be received by 11:59 p.m. ET on April 24, 2022.

ADDRESSES: Please include the Feature ID (FID) of the feature(s) of interest when submitting your comment. The FID for each feature is located in Column B of the posted list. Written comments must be submitted via email to taskforce_consultation@ios.doi.gov or by mail to Reconciliation of Derogatory Geographic Names, 1849 C Street NW, Room 6657, MS 6640-MIB, Washington, DC 20240.

FOR FURTHER INFORMATION CONTACT: Joseph Younkle, Special Assistant to the Assistant Secretary for Water and Science, Office of the Assistant Secretary—Water and Science, (202) 853-4345 or at joseph_younkle@ios.doi.gov.

SUPPLEMENTARY INFORMATION: On November 19, 2021, Secretary of the Interior Haaland signed S.O. 3404, declaring “squaw” as a derogatory term. In accordance with S.O. 3404, a list of candidate geographic names to replace those declared derogatory will be available for Tribal Consultation consistent with DOI policies and procedures. A list of five candidate replacement names for each feature was developed by the U.S. Geological Survey. The candidate replacement names were derived through a search of nearby named geographic features until at least five nearby names were available. The candidate replacement name will replace the derogatory modifier. For example, “Castle Creek” is the nearest named feature to “Squaw Mesa”. The first candidate replacement name for the derogatory named feature would be “Castle Mesa”.

The Derogatory Geographic Names Task Force (Task Force) created by S.O. 3404 will consider all comments and any proposed additional candidate replacement names received through the Tribal Consultation in developing a single recommended replacement name for each feature. The Board on Geographic Names (BGN) has received several proposals to rename a feature covered by S.O. 3404 through their conventional process, and these proposals are not yet resolved. These proposed names are indicated in the list, will be provided to the Task Force, and will be prioritized ahead of the proposed candidate replacement names on the list.

Replacement names, to the extent possible, shall adhere to BGN Principles, Policies, and Procedures for the Domestic Names Committee. BGN Policy V regarding Derogatory and Offensive Names now applies to the word “Squaw” as it is declared derogatory by S.O. 3404. Replacement names proposed during the Tribal Consultation session that are in clear violation of an existing policy will not be considered by the Task Force. The list of all replacement names recommended by the Task Force will be submitted to the BGN Domestic Names Committee for final adjudication.

The list of candidate replacement names under review by the Task Force is available at https://www.usgs.gov/us-board-on-geographic-names/so3404-candidate-names-list.

Tribal Consultation sessions will be held virtually at the following date and location:

Date | Time | Venue
March 21, 2022 | 12:00 p.m.-2:00 p.m. Mountain Time | Zoom: https://doitalent.zoomgov.com/meeting/register/vJIsf-2tqjgpHeeCaeJZV8O5 IvzxVvMKuz4.
March 22, 2022 | 11:00 a.m.-1:00 p.m. Pacific Time | Zoom: https://doitalent.zoomgov.com/meeting/register/vJItf-6rrTsoGWThRM-JXJn_p9diob1iLak.
March 23, 2022 | 1:00 p.m.-3:00 p.m. Eastern Time | Zoom: https://doitalent.zoomgov.com/meeting/register/vJIsdu-ppj0jH4KEJ2NRw HXPIlfyO6i7g-o.

Authority: The authority for this Order is established under 43 U.S.C. 364-364f.

Michael Tischler,
Director, National Geospatial Program, U.S. Geological Survey, Chair, DOI Derogatory Geographic Names Task Force.

[FR Doc. 2022-03744 Filed 2-22-22; 8:45 am]

BILLING CODE 4338-11-P